DEPARTMENT OF ENERGY

Federal Energy Regulatory Commission

[Docket No. EL13-75-000]

Indicated Load-Serving Entities v. Midcontinent Independent System Operator, Inc. and PJM Interconnection, L.L.C.; Notice of Complaint

Take notice that on July 2, 2013, the Indicated Load-Serving Entities, (Indicated LSEs or Complainants) within the Midcontinent Independent System Operator, Inc. (MISO) filed a formal complaint against MISO and PJM Interconnection, L.L.C. (PJM or Respondents), pursuant to sections 206, 306 and 309 of the Federal Power Act, 16 USC 824e, 825c, and 825h and 18 CFR 385.206 (2013), requesting that the Commission direct PJM to repay monies to MISO, and MISO in turn, to repay monies to the Indicated LSEs. The funds in question relate to an after-the-fact Market to Market resettlement, the costs of which are borne by the Indicated LSEs, under the MISO—PJM Joint Operating Agreement (JOA), as more fully described in Indicated LSEs' complaint.

The Indicated LSEs certify that copies of the complaint were served on the contacts for PJM and MISO as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on July 22, 2013.

Dated: July 3, 2013.
Kimberly D. Bose,
Secretary.

[FR Doc. 2013-16560 Filed 7-9-13; 8:45 am]

BILLING CODE 6717-01-P